DEPARTMENT OF AGRICULTURE

Rural Utilities Service

RIN 0572-ZA01

DEPARTMENT OF COMMERCE

National Telecommunications and Information Administration

RIN 0660-ZA28

Broadband Initiatives Program; Broadband Technology Opportunities Program

AGENCY: Rural Utilities Service (RUS), Department of Agriculture, and National Telecommunications and Information Administration (NTIA), Department of Commerce.

ACTION: Notice of Funds Availability; extension of application closing deadline for pending electronic applications.

SUMMARY: RUS and NTIA announce that the application closing deadline for the Broadband Initiatives Program (BIP) and the Broadband Technology Opportunities Program (BTOP) is extended until 5 p.m. Eastern Time (ET) on August 20, 2009, for any electronic applications pending as of 5 p.m. ET on August 14, 2009. There are no changes to the filing instructions for paper applications.

DATES: An applicant that is submitting an application for the BIP and BTOP electronically will be permitted to complete electronic submission of its application until 5 p.m. ET on August 20, 2009, so long as its application was pending in the Easygrants® System as of 5 p.m. ET on August 14, 2009 (application closing deadline).

FOR FURTHER INFORMATION CONTACT: For general inquiries regarding BIP, contact David J. Villano, Assistant Administrator Telecommunications Program, Rural Utilities Service, e-mail: bip@wdc.usda.gov, telephone: (202) 690-0525. For general inquiries regarding BTOP, contact Anthony Wilhelm, Deputy Associate Administrator, Infrastructure Division, Office of Telecommunications and Information Applications, National Telecommunications and Information Administration, e-mail: btop@ntia.doc.gov, telephone: (202) 482-2048.

SUPPLEMENTARY INFORMATION: On July 9, 2009, RUS and NTIA published a Notice of Funds Availability (NOFA) and Solicitation of Applications in the Federal Register announcing general policy and application procedures for the BIP and BTOP. 74 FR 33104 (2009). In the NOFA, RUS and NTIA encouraged all applicants to submit their applications electronically and required that certain applications be filed electronically through an online application system at http://www.broadbandusa.gov. 74 FR at 33118. RUS and NTIA established an application window for these grant programs from July 14, 2009, at 8 a.m. ET through August 14, 2009, at 5 p.m. ET (application closing deadline).

Over the last several days, the online application system (Easygrants® System) has experienced service delays due to the volume of activity from potential applicants. The agencies have added additional servers to address these capacity issues. Nevertheless, in an effort to give applicants that have already started the electronic application submission process prior to the application closing deadline an opportunity to complete the submission of those applications, RUS and NTIA announce that an applicant with an application pending in the Easygrants® System as of 5 p.m. ET on August 14, 2009, will be given until 5 p.m. ET on August 20, 2009, to complete the electronic submission of its application. Please note that an applicant must have completed the following steps, at a minimum, to be recognized as having a pending application in the Easygrants® System:

1. Log into the Easygrants® System at www.broadbandusa.gov;

2. Select “Start a new application” under “Apply for a new grant/loan;”

3. Select one of the two choices for available funding opportunities;

4. Select “Continue;” and

5. Select “ok” when prompted “Are you sure you want to apply for the program.”

All other requirements for electronic submissions set forth in the NOFA remain unchanged. There are no changes to the filing instructions, requirements, or application deadline for paper submissions.

Dated: August 13, 2009.
Jonathan Adelstein,
Administrator, Rural Utilities Service.
Anna M. Gomez,
Acting Assistant Secretary for Communications and Information, National Telecommunications and Information Administration.

[FR Doc. E9-19750 Filed 8-13-09; 4:15 pm]

BILLING CODE P